DEPARTMENT OF ENERGY

Federal Energy Regulatory Commission

[Docket No. CP01-76-000]

Cove Point LNG Limited Partnership; Notice of Intent To Prepare an Environmental Assessment for the Proposed Cove Point LNG Project, Request for Comments on Environmental Issues, and Notice of Public Meeting and Site Visit

February 16, 2001.

The staff of the Federal Energy Regulatory Commission (FERC or Commission) will prepare an environmental assessment (EA) that will discuss the environmental impacts of the Cove Point LNG Project involving the reactivation of offshore facilities, and the construction and operation of onshore facilities by Cove Point LNG Limited Partnership (Cove Point LNG) in Calvert County, Maryland.¹ The proposal anticipates the resumption of liquefied natural gas (LNG) deliveries by tanker ship to the Cove Point LNG import terminal starting in April 2002. This EA will be used by the Commission in its decision-making process to determine whether the project is in the public convenience and necessity.

¹ Cove Point LNG's application was filed with the Commission under Section 7 of the Natural Gas Act and Part 157 of the Commission's regulations.

Summary of the Proposed Project

Cove Point LNG proposes to provide open access LNG tanker unloading services of up to 750,000 dekatherms per day for three customers importing LNG. Cove Point LNG seeks authorization to reactivate, repair or replace the following existing facilities:

• refurbish five LNG unloading arms, and replace five LNG unloading arms with powered emergency release couplings;

• refurbish or replace offshore instrumentation and control systems;

• remove offshore LNG booster pumps and elevated pulpits from piers;

• refurbish and upgrade offshore fire water systems;

• renovate offshore offices and relocate control room to upper level;

• refurbish and upgrade hazard detection, fire protection, and electrical systems;

• refurbish the third gas-turbine electrical generator;

• replace the ten LNG vaporizers within the existing concrete tanks;

• refurbish the third first-stage LNG pump and four cold vapor blowers;

• restage the ten second-stage LNG sendout pumps;

• replace glycol-water heaters for the boiloff gas and fuel gas heater system;

• install nitrogen fire suppressant systems on all LNG storage tank relief vales; and

• decommission the existing 15 million cubic feet per day liquefaction system upon resumption of LNG imports.

Cove Point LNG also seeks authorization to construct and operate the following new facilities at its existing site:

• 850,000-barrel (2.8 billion cubic feet of gas equivalent) double-wall LNG storage tank with spill containment dike;

• 485,000 standard cubic feet per hour nitrogen separation plant to be used for Btu reduction of sendout gas;

• meter station on the 36-inch-diameter transmission pipeline; and

• addition to the administration building.

The location of the project facilities is shown in appendix 1.²

² The appendices referenced in this notice are not being printed in the Federal Register. Copies are available on the Commission's website at the “RIMS” link or from the Commission's Public Reference and Files Maintenance Branch, 888 First Street, NE., Washington, DC 20426, or call (202) 208-1371. For instructions on connecting to RIMS refer to the last page of this notice. Copies of the appendices were sent to all those receiving this notice in the mail.

In a related application filed under Docket No. CP01-77-000, Cove Point LNG seeks authorization to construct, site and modify the import terminal facilities at the terminal under Section 3(a) of the Natural Gas Act and Part 153 of the Commission's regulations.

Enhancements are also planned for the existing 87-mile-long Cove Point Pipeline, from Calvert County, Maryland to Loudon County, Virginia, pursuant to the Commission's blanket certificate authority and prior notice requirements in Part 157 Subpart F. Cove Point LNG plans to install pig ³ launchers and receivers on the Cove Point Pipeline; smart pig the entire pipeline; replace sections as needed; and uprate the pipeline pressure to 1,250 pounds per square inch under its blanket certificate authority. Transcontinental Gas Pipe Line Corporation (Transco) plans to install: hot taps on the Cove Point Pipeline and Transco's B and C Lines; a meter and regulating station; and 2 miles of 36-inch-diameter pipeline under prior notice procedures.

³ A pipeline pig is a device used to internally clean or inspect the pipeline. A pig launcher/receiver is a surface facility where pigs are inserted or retrieved from the pipeline.

Land Requirements for Construction

The Cove Point LNG terminal property consists of 1,017 acres on the western shore of the Chesapeake Bay, of which 108 acres are developed for onshore terminal operations. The proposed new onshore facilities would occupy about 6.0 acres within the developed site. Contractor staging and storage would temporarily affect an additional 18.2 acres of land in areas that were used during the initial construction of the facility.

The EA Process

The National Environmental Policy Act (NEPA) requires the Commission to take into account the environmental impacts that could result from an action whenever it considers the issuance of a Certificate of Public Convenience and Necessity. NEPA also requires us ⁴ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

⁴ “We”, “us”, and “our” refer to the environmental staff of the Office of Energy Projects (OEP).

The EA will discuss impacts that could occur as a result of the construction and operation of the proposed project under these general headings:

• geology and soils

• water resources, fisheries, and wetlands

• land use

• cultural resources

• vegetation and wildlife

• endangered and threatened species

• air quality and noise

• public safety

We will also evaluate possible alternatives to the proposed project or portions of the project, and make recommendations on how to lessen or avoid impacts on the various resource areas.

Our independent analysis of the issues will be presented in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section on page 5.

Currently Identified Environmental Issues

We have already identified several environmental issues that we think deserve attention based on a preliminary review of the proposed facilities and the environmental information provided by Cove Point LNG. This preliminary list of issues may be changed based on your comments and our analysis.

• Up to 90 LNG tankers per year would transit the Chesapeake Bay to the terminal by the year 2004.

• A safety exclusion zone, to be established around the offshore pier whenever an LNG tanker is moored, would restrict use around the pier by recreational and commercial fisherman.

• Environmental and technical issues associated with the construction and operation of a new 850,000 barrel LNG storage tank on the site.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to:

• David P. Boergers, Secretary, Federal Energy Regulatory Commission, 888 First St., N.E., Room 1A, Washington, DC 20426.

• Label one copy of the comments for the attention of Gas 1, PJ 11.1.

• Reference Docket No. CP01-76-000.

• Mail your comments so that they will be received in Washington, DC on or before March 23, 2001.

comments may also be filed electronically via the Internet in lieu of paper. See 18 CFR 385.2001(a)(1)(iii) and the instructions on the Commission's web site at http://www.ferc.fed.us/efi/doorbell.htm under the link to the User's Guide. Before you can file comments, you will need to create an account by clicking on “Login to File” and then “New User Account.”

Public Scoping Meeting and Site Visit

In addition to asking for written comments, we invite you to attend a public scoping meeting that we will conduct in the project area. The purpose of the scoping meeting is to provide state and local agencies, interested groups, affected landowners, and the general public with an opportunity to learn more about the project and another chance to present us with environmental issues or concerns they believe should be addressed in the EA. A transcript of the meeting will be made so that your comments will be accurately recorded. The location and time is listed below: Thursday, March 15, 2001, 7:00 pm, Holiday Inn, Solomons, MD.

Earlier in the day on March 15, 2001, we will also be conducting a site visit of the Cove Point LNG terminal. Anyone interested in participating in the site visit may contact the FERC's Office of External Affairs identified at the end of this notice for more details. The purpose of the scoping meeting and site visit is limited to environmental issues only. Technical meetings associated with the engineering and cyrogenic design of the facility will be conducted at a later date. Tariff issues and natural gas quality concerns will not be entertained at the scoping meeting and site visit.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the helpline can be reached at (202) 208-2474.

David P. Boergers,
Secretary.

[FR Doc. 01-4510 Filed 2-22-01; 8:45 am]

BILLING CODE 6717-01-M